DEPARTMENT OF TRANSPORTATION

Federal Railroad Administration

49 CFR Part 270

[Docket No. FRA-2025-0112]

RIN 2130-AD53

Administrative Updates to the Federal Railroad Administration's System Safety Program Regulations

AGENCY: Federal Railroad Administration (FRA), U.S. Department of Transportation (DOT).

ACTION: Final rule.

SUMMARY: This rule makes administrative updates to FRA's system safety program regulations, including updating addresses in those regulations.

DATES: Effective July 1, 2025.

FOR FURTHER INFORMATION CONTACT: Veronica Chittim, Senior Attorney, Office of Safety Law, Office of the Chief Counsel, FRA, 1200 New Jersey Avenue SE, Washington, DC 20590 (telephone 202-480-3410), veronica.chittim@dot.gov; or Lucinda Henriksen, Senior Advisor, Office of Railroad Safety, FRA (telephone 202-657-2842), lucinda.henriksen@dot.gov.

SUPPLEMENTARY INFORMATION:

I. Background

Consistent with the deregulatory agenda of President Donald J. Trump and Secretary of Transportation Sean P. Duffy, which seeks to unleash America's economic prosperity without compromising transportation safety, and as described in more detail below, this rule is making miscellaneous, administrative updates to its regulations in 49 CFR part 270. These changes include updating addresses that are no longer valid.

II. Section-by-Section Analysis

Part 270

§ 270.7 Penalties and Responsibility for Compliance

FRA is amending § 270.7(a) to update the web address from www.fra.dot.gov to https://railroads.dot.gov/. FRA is updating § 270.7(c)(2)(ii) to direct notifications to the email address FRA-SSP@dot.gov.

§ 270.107 Consultation Requirements

FRA is amending § 270.107(c)(1) to replace the mailing address with the email address FRA-SSP@dot.gov and to remove a duplicate reference to filing statements with the FRA Associate Administrator for Railroad Safety and Chief Safety Officer.

§ 270.201 Filing and Approval

FRA is amending § 270.201(a)(1) to replace the mailing address with the email address FRA-SSP@dot.gov. FRA is updating § 270.201(c)(1)(i) to direct amendments to be filed at the email address FRA-SSP@dot.gov. FRA is removing § 270.201(e), as the language is superfluous, given the overall update to electronic submissions.

§ 270.303 Internal System Safety Program Assessment

FRA is amending § 270.303(c)(1)(i) to replace the mailing address with the email address FRA-SSP@dot.gov.

§ 270.305 External Safety Audit

FRA is amending § 270.305(b)(1) to direct a passenger rail operation to submit an improvement plan to the email address FRA-SSP@dot.gov.

§ 270.405 General Requirements; Procedure

FRA is amending § 270.405(c)(1) and (2) to direct a passenger rail operation to submit an FRMP plan or an update to that FRMP plan to the email address FRAFatigue@dot.gov.

§ 270.409 Requirements for an FRMP Plan

FRA is amending § 270.409(a) to direct a passenger rail operation to submit an FRMP plan to the email address FRAFatigue@dot.gov.

Appendix C Procedures for Submission of SSP Plans and Statements From Directly Affected Employees

FRA is amending appendix C to replace the mailing address (Mail Stop 25, 1200 New Jersey Avenue SE, Washington, DC 20590) with the email address FRA-SSP@dot.gov. FRA is revising the language to reflect the change to electronic submissions throughout part 270. FRA is also amending appendix C to affirmatively reference amendments to SSP plans.

III. Public Participation

Under the Administrative Procedure Act (APA), an agency may waive the normal notice and comment procedures if the action is a rule of agency organization, procedure, or practice. 5 U.S.C. 553(b)(A). Additionally, under the APA, an agency may waive notice and comment procedures when the agency for good cause finds that notice and public procedure are impracticable, unnecessary, or contrary to the public interest. 5 U.S.C. 553(b)(B). Since this final rule merely makes miscellaneous, administrative updates to the CFR, such as updating web addresses, it would not benefit from public comment, and notice and comment is not necessary.

IV. Regulatory Impact and Notices

A. Executive Order (E.O.) 12866 (Regulatory Planning and Review) and DOT Regulatory Policies and Procedures

FRA has evaluated this final rule in accordance with E.O. 12866, Regulatory Planning and Review (58 FR 51735, Oct. 4, 1993), and DOT Order 2100.6B, Policies and Procedures for Rulemaking (Mar. 10, 2025). The Office of Information and Regulatory Affairs within the Office of Management and Budget (OMB) determined that this final rule is not a significant regulatory action under section 3(f) of E.O. 12866.

Because this final rule makes administrative changes such as updating web and email addresses, this final rule imparts no additional burdens on regulated entities. Moreover, this rule will provide some qualitative benefits to regulated entities and the U.S. government, by clarifying the language of part 270 and directing the regulated entities to the appropriate sites in the CFR. Additionally, this final rule allows electronic methods, such as email, for submitting documents. This will expedite the speed at which documents are delivered while also reducing costs that would otherwise exist from having to physically print, mail, and process documents.

B. E.O. 14192 (Unleashing Prosperity Through Deregulation)

E.O. 14192, Unleashing Prosperity Through Deregulation (90 FR 9065, Jan. 31, 2025), requires that for “each new [E.O. 14192 regulatory action] issued, at least ten prior regulations be identified for elimination.” ¹ Implementation guidance for E.O. 14192 issued by OMB (Memorandum M-25-20, March 26, 2025) defines two different types of E.O. 14192 actions: an E.O. 14192 deregulatory action, and an E.O. 14192 regulatory action.²

¹ Executive Office of the President. Executive Order 14192 of January 31, 2025. Unleashing Prosperity Through Deregulation. 90 FR 9065-9067. Feb. 6, 2025.

² Executive Office of the President. Office of Management and Budget. Guidance Implementing Section 3 of Executive Order 14192, Titled “Unleashing Prosperity Through Deregulation.” Memorandum M-25-20. Mar. 26, 2025.

An E.O. 14192 deregulatory action is defined as “an action that has been finalized and has total costs less than zero.” This final rule is expected to have total costs less than zero, and therefore it would be considered an E.O. 14192 deregulatory action.

C. Regulatory Flexibility Act and E.O. 13272

The Regulatory Flexibility Act of 1980 ((RFA), 5 U.S.C. 601 et seq.) and E.O. 13272 (67 FR 53461, Aug. 16, 2002) require an agency to prepare and make available to the public a regulatory flexibility analysis that describes the effect of the rule on small entities (i.e., small businesses, small organizations, and small governmental jurisdictions). A regulatory flexibility analysis is not required when a rule is exempt from notice and comment rulemaking. FRA has determined that this rule is exempt from notice and comment rulemaking. Therefore, a regulatory flexibility analysis is not required for this rule.

D. Paperwork Reduction Act

There is no new collection of information requirements contained in this final rule, and in accordance with the Paperwork Reduction Act of 1995, 44 U.S.C. 3501 et seq., therefore, an information collection submission to the Office of Management and Budget (OMB) is not required. The recordkeeping and reporting requirements already contained in part 270 became effective when they were approved by OMB on November 7, 2023. The OMB approval number is 2130-0599, and OMB approval expires November 30, 2026.

E. Environmental Assessment

FRA has analyzed this rule for the purposes of the National Environmental Policy Act of 1969 (NEPA). In accordance with 42 U.S.C. 4336 and DOT NEPA Order 5610.1C, FRA has determined that this rule is categorically excluded pursuant to 23 CFR 771.118(c)(4), “[p]lanning and administrative activities that do not involve or lead directly to construction, such as: [p]romulgation of rules, regulations, and directives.” This rulemaking is not anticipated to result in any environmental impacts, and there are no unusual or extraordinary circumstances present in connection with this rulemaking.

F. Federalism Implications

This final rule will not have a substantial effect on the States, on the relationship between the national government and the States, or on the distribution of power and responsibilities among the various levels of government. Thus, in accordance with E.O. 13132, “Federalism” (64 FR 43255, Aug. 10, 1999), preparation of a Federalism Assessment is not warranted.

G. Unfunded Mandates Reform Act of 1995

This final rule will not result in the expenditure, in the aggregate, of $100,000,000 or more, adjusted for inflation, in any one year by State, local, or Indian Tribal governments, or the private sector. Thus, consistent with section 202 of the Unfunded Mandates Reform Act of 1995 (Pub. L. 104-4, 2 U.S.C. 1532), FRA is not required to prepare a written statement detailing the effect of such an expenditure.

H. Energy Impact

E.O. 13211, Actions Concerning Regulations that Significantly Affect Energy Supply, Distribution, or Use (66 FR 28355, May 22, 2001), requires Federal agencies to prepare a Statement of Energy Effects for any “significant energy action.” FRA has evaluated this rule in accordance with E.O. 13211 and determined that this rule is not a “significant energy action” within the meaning of E.O. 13211.

I. E.O. 13175 (Tribal Consultation)

FRA has evaluated this final rule in accordance with the principles and criteria contained in E.O. 13175, Consultation and Coordination with Indian Tribal Governments, (Nov. 6, 2000). The final rule would not have a substantial direct effect on one or more Indian tribes, would not impose substantial direct compliance costs on Indian tribal governments, and would not preempt tribal laws. Therefore, the funding and consultation requirements of E.O. 13175 do not apply, and a tribal summary impact statement is not required.

J. International Trade Impact Assessment

The Trade Agreement Act of 1979 prohibits Federal agencies from engaging in any standards or related activities that create unnecessary obstacles to the foreign commerce of the U.S. Legitimate domestic objectives, such as safety, are not considered unnecessary obstacles. The statute also requires consideration of international standards and, where appropriate, that they be the basis for U.S. standards. This rulemaking is purely domestic in nature and is not expected to affect trade opportunities for U.S. firms doing business overseas or for foreign firms doing business in the U.S.

List of Subjects in 49 CFR Part 270

Penalties, Railroad safety, Reporting and recordkeeping requirements, System safety.

The Final Rule

In consideration of the foregoing, FRA amends part 270 of chapter II, subtitle B of title 49, Code of Federal Regulations as follows:

PART 270—SYSTEM SAFETY PROGRAM

1. The authority citation for part 270 is revised to read as follows:

Authority: 49 U.S.C. 20103, 20106-20107, 20118-20119, 20156, 21301, 21304, 21311; 28 U.S.C. 2461 note; and 49 CFR 1.89.

2. In § 270.7, revise the last sentence in paragraph (a) and the first sentence in paragraph (c)(2)(ii), to read as follows:

§ 270.7 Penalties and responsibility for compliance.

(a) * * * FRA's website at https://railroads.dot.gov/ contains a schedule of civil penalty amounts used in connection with this part.

* * * * *

(c) * * *

(2) * * *

(ii) A passenger rail operation subject to this part may notify FRA of a designation of responsibility before submitting an SSP plan by first submitting a designation of responsibility notice to the Associate Administrator for Railroad Safety and Chief Safety Officer at FRA-SSP@dot.gov. * * *

3. Revise the first sentence in § 270.107(c)(1) to read as follows:

§ 270.107 Consultation requirements.

* * * * *

(c) * * *

(1) If a passenger rail operation and its directly affected employees cannot reach agreement on the proposed contents of an SSP plan, the directly affected employees may file a statement explaining their views on the plan on which agreement was not reached with the FRA Associate Administrator for Railroad Safety and Chief Safety Officer at FRA-SSP@dot.gov. * * *

* * * * *

4. Amend § 270.201 by

a. Revising paragraph (a)(1) and the first sentence in paragraph (c)(1)(i); and

b. Removing paragraph (e).

The revisions read as follows:

§ 270.201 Filing and approval.

(a) * * *

(1) Each passenger rail operation to which this part applies shall submit one copy of its SSP plan to the FRA Associate Administrator for Railroad Safety and Chief Safety Officer at FRA-SSP@dot.gov, no later than March 4, 2021, or not less than 90 days before commencing passenger operations, whichever is later.

* * * * *

(c) * * *

(1)(i) A passenger rail operation shall submit any amendment(s) to the SSP plan to the FRA Associate Administrator for Railroad Safety and Chief Safety Officer at FRA-SSP@dot.gov not less than 60 days before the proposed effective date of the amendment(s). * * *

* * * * *

5. Revise § 270.303(c)(1)(i) to read as follows:

§ 270.303 Internal system safety program assessment.

* * * * *

(c)(1) * * *

(i) Submit a copy of the passenger rail operation's internal assessment report that includes a system safety program assessment and the status of internal assessment findings and improvement plans to the FRA Associate Administrator for Railroad Safety and Chief Safety Officer at FRA-SSP@dot.gov; and

* * * * *

6. Revise the first sentence in § 270.305(b)(1) to read as follows:

§ 270.305 External safety audit.

* * * * *

(b)(1) Within 60 days of FRA's written notification of the results of the audit, the passenger rail operation shall submit for approval to the FRA Associate Administrator for Railroad Safety and Chief Safety Officer, at FRA-SSP@dot.gov, an improvement plan to address the audit findings that require corrective action. * * *

* * * * *

7. Revise § 270.405(c) to read as follows:

§ 270.405 General requirements; procedure.

* * * * *

(c)(1) A railroad shall submit an FRMP plan for approval to the FRA Associate Administrator for Railroad Safety and Chief Safety Officer at FRAFatigue@dot.gov, no later than either the applicable timeline in § 270.201(a) for filing its SSP plan or July 13, 2023, whichever is later.

(2) A railroad shall submit updates to its FRMP plan to the FRA Associate Administrator for Railroad Safety and Chief Safety Officer at FRAFatigue@dot.gov, under the process for amending its SSP plan in § 270.201(c).

* * * * *

8. Revise the last sentence in § 270.409(a) to read as follows:

§ 270.409 Requirements for an FRMP plan.

(a) * * * A railroad must submit the plan for approval to the FRA Associate Administrator for Railroad Safety and Chief Safety Officer at FRAFatigue@dot.gov, under the criteria of subpart C.

* * * * *

9. Revise appendix C to part 270 to read as follows: mailto:

Appendix C to Part 270—Procedures for Submission of SSP Plans, SSP Plan Amendments, and Statements From Directly Affected Employees.

This appendix summarizes procedures for the submission of an SSP plan, an amendment to an already-approved SSP plan, or a statement by directly affected employees consistent with the requirements of this part.

Submission by a Passenger Rail Operation or Directly Affected Employees

As provided for in § 270.101, a system safety program shall be fully implemented and supported by a written SSP plan. Each passenger rail operation must submit its SSP plan to FRA for approval as provided for in § 270.201(a) and SSP plan amendments as provided for in § 270.201(c).

As provided for in § 270.107(c), if a passenger rail operation and its directly affected employees cannot come to agreement on the proposed contents of the SSP plan, the directly affected employees have 30 days following the submission of the proposed SSP plan to submit a statement to the FRA Associate Administrator for Railroad Safety and Chief Safety Officer explaining the directly affected employees' views on the plan on which agreement was not reached.

The passenger rail operation's and directly affected employees' submissions shall be sent to the FRA Associate Administrator for Railroad Safety and Chief Safety Officer at FRA-SSP@dot.gov. When a passenger rail operation submits its SSP plan (or SSP plan amendment) and consultation statement to FRA pursuant to § 270.201, it must also simultaneously send a copy of these documents to all individuals identified in the service list pursuant to § 270.107(b)(3).

Each passenger rail operation and directly affected employee is authorized to file by electronic means any submissions required under this part. A passenger rail operation that electronically submits an initial SSP plan or SSP plan amendment pursuant to this part shall be considered to have provided its consent to receive approval or disapproval notices from FRA by email. FRA may electronically store any materials required by this part.

Issued in Washington, DC.
Kyle D. Fields,
Chief Counsel.

[FR Doc. 2025-12184 Filed 6-27-25; 4:15 pm]

BILLING CODE 4910-06-P